DEPARTMENT OF JUSTICE

Immigration and Naturalization Service

8 CFR Part 264

[INS No. 2040-00]

RIN 1115-AF74

Fingerprinting Certain Applicants for a Replacement Permanent Resident Card (Form I-551)

AGENCY: Immigration and Naturalization Service, Justice.

ACTION: Final rule.

SUMMARY: This rule amends the Immigration and Naturalization Service (Service) regulations clarifying which applicants for a replacement Permanent Resident Card (Form I-551) are required to be fingerprinted. This change is necessary to correct an inadvertent error in the regulations, which currently requires all applicants for a replacement Permanent Resident Card to be fingerprinted.

DATES: This final rule is effective September 26, 2000.

FOR FURTHER INFORMATION CONTACT: Pamela T. Wallace, Adjudications Officer, Immigration Services Division, Office of Field Operations, Immigration and Naturalization Service, 801 I Street, NW., Room 930, Washington, DC 20036, telephone (202) 514-9475.

SUPPLEMENTARY INFORMATION:

Why Is the Service Changing the Fingerprinting Requirements for a Replacement Permanent Resident Card (Formally Alien Registration Receipt Card)?

On March 17, 1998, the Service published on interim rule in the Federal Register at 63 FR 12979 implementing a new program to fingerprint applicants and petitioners for immigration benefits. The new program changed procedures for fingerprinting applicants and petitioners for all immigration benefits, including applicants for a replacement Alien Registration Receipt Card (name was changed to Permanent Resident Card effective January 20, 1999, 63 FR 70313). The interim rule removed the requirement for applicants and petitioners to file applications and petitions with a completed Fingerprint Card (Form FD-258). Instead, under the interim rule, the Service would notify applicants and petitioners after they filed their applications or petitions to appear at an Application Support Center or other Service-designated location, including State or local law enforcement agencies, to be fingerprinted.

Before publication of the interim rule, the regulations required an applicant for a replacement Alien Registration Receipt Card (currently Permanent Resident Card) to be fingerprinted:

• Only if he or she was applying for a replacement Alien Registration Receipt Card because he or she had reached the age of 14 years, unless

• The existing Alien Registration Receipt Card would expire before his or her 16th birthday.

The interim rule inadvertently changed the regulations to require all applicants for a replacement of, or renewal of, an Alien Registration Receipt Card (currently Permanent Resident Card) to be fingerprinted.

What Does This Final Rule Do?

This final rule amends the Service's regulations to correct the inadvertent error made in the interim rule. The Service will fingerprint an applicant filing Form I-90 for replacement of, or renewal of, a Permanent Resident Card only if:

• He or she is applying for a replacement Permanent Resident Card because he or she has reached the age of 14 years.

Accordingly, § 264.5(e)(3)(i) will be amended to clarify that except for those applications filed pursuant to § 264.5(b)(8), applicants for a replacement Permanent Resident Card are not required to be fingerprinted on Form FD-258, unless otherwise instructed by the Attorney General.

Will the Service Finalize the March 17, 1998, Interim Rule?

Yes, the Service will finalize the interim rule later this fiscal year and address all comments at that time.

Good Cause Exception

The Service's implementation of this rule as a final rule is based on the “good cause” exceptions found at 5 U.S.C. 553(b)(B) and (d)(3). The reason and necessity for immediate implementation of this final rule without prior notice and comment are as follows:

Alien Registration Receipt Cards (currently Permanent Resident Cards), that were issued with 10-year expiration dates, are beginning to expire and must be renewed. Under the current regulations all permanent residents who have a Permanent Resident Card that is expiring must be fingerprinted after they file a Form I-90, Application to Replace Permanent Resident Card.

This final rule is needed to correct an inadvertent error in the regulations so that the Service only requires certain applicants for a replacement Permanent Resident Card to be fingerprinted.

Accordingly, delaying implementation of this final rule would:

• Require all applicants to be fingerprinted unnecessarily,

• Delay the filing and adjudication of these applications, and

• Would be contrary to the public interest.

Regulatory Flexibility Act

The Commissioner of the Immigration and Naturalization Service, in accordance with the Regulatory Flexibility Act (5 U.S.C. 605(b)), has reviewed this regulation and, by approving it, certifies that this rule will not have a significant economic impact on a substantial number of small entities. This rule affects individual applicants for a replacement Permanent Resident Card. It does not affect small entities as that term is defined in 5 U.S.C. 601(b).

Unfunded Mandates Reform Act of 1995

This rule will not result in the expenditure by State, local, and tribal governments in the aggregate, or by the private sector, of $100 million or more in any 1 year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

This rule is considered by the Department of Justice, Immigration and Naturalization Service, to be a “significant regulatory action” under Executive Order 12866, section 3(f), Regulatory Planning and Review. Accordingly, this regulation has been submitted to the Office of Management and Budget for review.

Executive Order 13132

This rule adopted herein will not have substantial direct effects on the States, on the relationship between the National Government and the States, or on the distribution of power and responsibilities among the various levels of government. Therefore, in accordance with section 6 of Executive Order 13132, it is determined that this rule does not have sufficient federalism implications to warrant the preparation of a federalism summary impact statement.

Executive Order 12988 Civil Justice Reform

This rule meets the applicable standards set forth in sections 3(a) and 3(b)(2) of E.O. 12988.

List of Subjects in 8 CFR Part 264

Aliens, Immigration, Reporting and recordkeeping requirements.

Accordingly, part 264 of chapter I of title 8 of the Code of Federal Regulations is amended as follows:

PART 264—REGISTRATION AND FINGERPRINTING OF ALIENS IN THE UNITED STATES

1. The authority citation for part 264 continues to read:

Authority: 8 U.S.C. 1103, 1201, 1201a, 1301-1305.

§ 264.5 [Amended]

2. In § 264.5, paragraph (e)(3)(i) is amended by adding the phrase “filing under paragraph (b)(8) of this section” immediately after the word “applicant” and before the word “shall”.

Dated: February 9, 2000.
Doris Meissner,
Commissioner, Immigration and Naturalization Service.

[FR Doc. 00-24600 Filed 9-25-00; 8:45 am]

BILLING CODE 4410-10-M